DEPARTMENT OF TRANSPORTATION

Federal Aviation Administration

[Docket No. FAA-2016-6596]

Passenger Facility Charge (PFC) Program: Eligibility of Ground Access Projects Meeting Certain Criteria

AGENCY: Federal Aviation Administration (FAA), DOT.

ACTION: Notice of proposed policy amendment and request for comments; extension of comment period.

SUMMARY: The FAA is extending the comment period on its notice of proposed policy published on May 3, 2016, that proposes to amend its “Notice of Policy Regarding the Eligibility of Airport Ground Transportation Projects for Funding Under the Passenger Facility Charge (PFC) Program,” regarding the requirement for PFC funding of on-airport, rail access projects.

DATES: Comments must be received on or before June 17, 2016.

ADDRESSES: You may send comments identified by docket number FAA-2016-6596 using any of the following methods:

• Federal eRulemaking Portal: Go to http://www.regulations.gov and follow the instructions for sending your comments electronically.

• Mail: Docket Management Facility, U.S. Department of Transportation, 1200 New Jersey Avenue SE., West Building Ground Floor, Room W12-140, Washington, DC 20590-0001.

• Hand Delivery: Deliver comments to Docket Operations in Room W12-140 of the West Building Ground Floor at 1200 New Jersey Avenue SE., Washington, DC, between 9 a.m. and 5 p.m., Monday through Friday, except Federal holidays.

• Fax: (202) 493-2251.

FOR FURTHER INFORMATION CONTACT: Joe Hebert, Manager, Financial Analysis and Passenger Facility Charge Branch, APP-510, Federal Aviation Administration, 800 Independence Avenue SW., Washington, DC 20591, telephone (202) 267-8375; facsimile (202) 267-5302.

SUPPLEMENTARY INFORMATION: On May 3, 2016, the FAA published a notice titled “Notice of Proposed Policy Amendment and Request for Comments” (81 FR 26611). In that Notice, the FAA proposed to change the policy regarding the Passenger Facility Charge eligibility of ground access projects meeting certain criteria. The notice requested that interested parties submit written comments by June 2, 2016.

On May 11, 2016, the Airports Council International—North America (ACI-NA), the American Association of Airport Executives (AAAE), and Airlines for America (A4A) submitted a request to extend the comment period by 30 days because additional time is needed to conduct the necessary research and assess the alternatives that the FAA proposes and also consolidate comments from their respective members. After careful consideration of the schedule constraints, the FAA has decided to extend the comment period for 15 days until June 17, 2016. The FAA expects that the additional time for comments will allow the affected community to prepare meaningful comments which will help the FAA to consider an amendment to FAA's airport ground access transportation policy for PFC funding.

Issued in Washington, DC, on May 17, 2016.
Elliott Black,
Director, Office of Airport Planning and Programming.

[FR Doc. 2016-11954 Filed 5-19-16; 8:45 am]

BILLING CODE 4910-13-P